DEPARTMENT OF HEALTH AND HUMAN SERVICES

Administration for Children and Families

Proposed Information Collection Activity; Comment Request; Proposed Projects

Title: TANF Labor Market Survey.

OMB No.: New Collection.

Description: Understanding the motivations, hiring practices, and work place policies of employers—the demand side of the labor market—can provide considerable information to policy makers interested in promoting work and advancement among welfare recipients and other less-skilled workers. This project will add to our knowledge in this area by surveying employers in the TANF/low-wage labor market. We will survey a national sample of employers, focusing on industry sectors with the most jobs in the low-wage labor market, the employers most relevant for the majority of current and recent TANF recipients. The survey will gather information from employers on their attitudes, practices, and policies toward TANF recipient and other low-skill hires, including information on worker advancement, the use of work force intermediaries in hiring, and the role that child care plays in worker retention. The survey will allow for comparisons of employers in urban-core areas, suburbs, and exurbs/rural areas. It will also measure employment outcomes for TANF recipients and other low-skilled workers, allowing us to draw connections between employer practices and employee outcomes. In short, this national survey of employers in the low-wage labor market can provide key information on what employer practices and policies are and how they are associated with workplace success for welfare recipients and other less-skilled workers.

Respondents: A nationally representative sample of business establishments having 4 or more workers.

Annual Burden Estimates
Instrument | Number of respondents | Number of responses per respondent | Average burden hours per response | Total burden hours
TANF Labor Market Survey | 1,300 | 1 | 0.33 | 429

Estimated Total Annual Burden Hours: 429.

In compliance with the requirements of Section 3506(c)(2)(A) of the Paperwork Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Office. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 6, 2006.
Robert Sargis,
Reports Clearance Officer.

[FR Doc. 06-3520 Filed 4-12-06; 8:45 am]

BILLING CODE 4184-01-M